DEPARTMENT OF AGRICULTURE

Farm Service Agency

Information Collection: Agricultural Foreign Investment Disclosure Act

AGENCY: Farm Service Agency, USDA.

ACTION: Notice; request for comments.

SUMMARY: In accordance with the Paperwork Reduction Act of 1995, the Farm Service Agency (FSA) is requesting comments from all interested individuals and organizations on the extension of a currently approved information collection associated with the Agricultural Foreign Investment Disclosure Act (AFIDA) of 1978.

DATES: We will consider comments that we receive by January 8, 2013.

ADDRESSES: We invite you to submit comments on this notice. In your comments, include date, volume, and page number of this issue of the Federal Register. You may submit comments by any of the following methods:

• Federal eRulemaking Portal: Go to http://www.regulations.gov. Follow the online instructions for submitting comments.

• Mail: Lesa A. Johnson, Agricultural Foreign Investment Disclosure Act (AFIDA) Program Manager, Natural Resources Analysis Group, Economic and Policy Analysis Staff, USDA, FSA, STOP 0531, 1400 Independence Avenue SW., Washington, DC 20250-0531.

• Email: lesa.johnson@wdc.usda.gov.

You may also send comments to the Desk Officer for Agriculture, Office of Information and Regulatory Affairs, Office of Management and Budget, Washington, DC 20503. Copies of the information collection may be requested by contacting Lesa A. Johnson at the above ADDRESSES.

FOR FURTHER INFORMATION CONTACT: Lesa A. Johnson, Agricultural Foreign Investment Disclosure Act (AFIDA) Program Manager, (202) 720-9223.

SUPPLEMENTARY INFORMATION:

Title: Agricultural Foreign Investment Disclosure Act Report.

OMB Control Number: 0560-0097.

Expiration Date of Approval: April 30, 2013.

Type of Request: Extension of a currently approved information collection.

Abstract: AFIDA requires foreign persons who hold, acquire, or dispose of any interest in U.S. agricultural land to report the transactions to FSA on an AFIDA report (FSA-153). The information collected is made available to States. Also, although not required by law, the information collected from the AFIDA reports is used to prepare an annual report to Congress and the President concerning the effect of foreign investment upon family farms and rural communities so that Congress may review the annual report and decide if further regulatory action is required.

Estimate of Average Time to Respond: 0.476 hours per response.

Respondents: Foreign investors, corporate employees, attorneys, or farm managers.

Estimated Number of Respondents: 5,525.

Estimated Number of Responses per Respondent: 1.

Estimated Number of Responses: 5,525.

Estimated Total Annual Burden on Respondents: 2,631.25 hours.

We are requesting comments on all aspects of this information collection to help us to:

(1) Determine whether the continued collection of information is still necessary for the proper performance of the functions of the FSA, including whether the information will have practical utility;

(2) Assess the accuracy of the FSA's estimate of burden including the validity of the methodology and assumptions used;

(3) Enhance the quality, utility and clarity of the information to be collected; and

(4) Minimize the burden of the collection of information on those who are to respond, including through the use of appropriate automated, electronic, mechanical, or other technological collection techniques or other forms of information technology.

All comments received in response to this notice, including names and addresses when provided, will be a matter of public record. Comments will be summarized and included in the submission for the Office of Management and Budget approval.

Signed on September 20, 2012.
Carolyn B. Cooksie,
Acting Administrator, Farm Service Agency.

[FR Doc. 2012-27393 Filed 11-8-12; 8:45 am]

BILLING CODE 3410-05-P